SECURITIES AND EXCHANGE COMMISSION

[File No. 500-1]

In the Matter of China Education International, Inc., Delta Entertainment Group Inc., and Gulf United Energy, Inc.; Order of Suspension of Trading

April 7, 2015.

It appears to the Securities and Exchange Commission that there is a lack of current and accurate information concerning the securities of China Education International, Inc. because it has not filed any periodic reports since the period ended September 30, 2012.

It appears to the Securities and Exchange Commission that there is a lack of current and accurate information concerning the securities of Delta Entertainment Group Inc. because it has not filed any periodic reports since the period ended September 30, 2012.

It appears to the Securities and Exchange Commission that there is a lack of current and accurate information concerning the securities of Gulf United Energy, Inc. because it has not filed any periodic reports since the period ended September 30, 2012.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on April 7, 2015, through 11:59 p.m. EDT on April 20, 2015.

By the Commission.
Jill M. Peterson,
Assistant Secretary.

[FR Doc. 2015-08259 Filed 4-7-15; 4:15 pm]

BILLING CODE 8011-01-P